DEPARTMENT OF DEFENSE

Department of the Army; Corps of Engineers

Deauthorization of Water Resources Projects

AGENCY: Army Corps of Engineers, DoD.

ACTION: Notice of project deauthorizations.

SUMMARY: The U.S. Army Corps of Engineers is publishing the names of water resources projects that have been automatically deauthorized under the provisions of § 1001(a), Public Law 99-662, as amended, 33 U.S.C. 579a(a).

FOR FURTHER INFORMATION CONTACT: Mr. Joseph W. Aldridge, Headquarters, U.S. Army Corps of Engineers, Attention: CECW-IP, Washington, DC 20314-1000. Tel. (202) 761-4130 or joseph.w.aldridge@usace.army.mil.

SUPPLEMENTARY INFORMATION: Section 1001(a) of the Water Resources Development Act of 1986, Public Law 99-662, 100 Stat. 4082-4273, as amended, provides for the automatic deauthorization of water resource projects that were authorized in Public Law 99-662 and did not have obligations for planning, design, or construction in the five-year period following the date of enactment of Public Law 99-662 (November 17, 1986).

In accordance with section 1001(a), of WRDA 1986, 24 projects were automatically deauthorized on November 17, 1991. The following table indicates the disposition of the listed projects.

Table 1—(Automatically Deauthorized Under Section 1001(a) of WRDA 1986)
Corps district | Projects automatically deauthorized on 17 November 1991 under Section 1001(a) WRDA 1986 | Primary state | Project purpose
POA | SOUTH CENTRAL RAILBELT AREA, AK | AK | HYD
SWL | LITTLE RIVER, AR | AR | FRM
SPL | LITTLE COLORADO RIVER WATERSHED, AZ | AZ | FRM
SPL | RILLITO RIVER, EL RIO ANTIGUO, AZ | AZ | AER
SPK | SACRAMENTO RIVER, CA | CA | EI
SPL | HUNTINGTON HARBOR DREDGING, CA | CA | AER
NWO | METROPOLITAN DENVER, CO | CO | FRM
POH | WAILUA FALLS, WAILUA RIVER, KAUAI, HI | HI | HYD
LRL | WABASH RIVER, IL | IL | FRM
LRC | LAKE GEORGE, HOBART, IN | IN | AER
LRL | OHIO RIVER AND TRIBUTARIES, KY & WV | KY&WV | FRM
MVN | LAKE CHARLES, LA | LA | NAV
MVK | CANEY CREEK, MS | MS | FRM
MVK | GREENVILLE HARBOR, MS | MS | NAV
NAN | FRESH KILLS IN CARTERET, NJ | NJ | NAV
NAN | GREENWOOD LAKE AND BELCHER CREEK, NJ | NJ | AER
NAN | PASSAIC RIVER BASIN CHANNEL CLEARING, NJ | NJ | FRM
NAN | PASSAIC RIVER, NJ | NJ | FRM
LRP | WHEELING CREEK WATERSHED, OH | OH | AER
NAP | SCHUYLKILL RIVER BASIN, POTTSTOWN, PA | PA | FRM
NWO | JAMES RIVER ND & SD | SD | FRM
MVM | MEMPHIS, TN | TN&MS | FRM
SAJ | CROWN BAY CHANNEL, ST. THOMAS HARBOR, VI | VI | NAV
NWS | LA CONNER, WA | WA | FRM
| Total: 24

U.S. Army Corps Districts

LRC Chicago District

LRL Louisville District

LRP Pittsburgh District

MVK Vicksburg District

MVM Memphis District

MVN New Orleans District

NAN New York District

NAP Philadelphia District

NWO Omaha District

NWS Seattle District

POA Alaska District

POH Honolulu District

SAJ Jacksonville District

SPK Los Angeles District

SPL Albuquerque District

SWL Little Rock District

Authorized Project Purposes

AER Aquatic Ecosystems Restoration

EI Environment Infrastructure

FRM Flood Risk Management

HYD Hydroelectric Power

NAV Navigation

Authority: This notice is required by the Water Resources Development Act of 1986, Public Law 99-662, section 1001(c), 33 U.S.C. 579a(c).

Dated: July 21, 2016.
Jo-Ellen Darcy,
Assistant Secretary of the Army (Civil Works).

[FR Doc. 2016-19024 Filed 8-9-16; 8:45 am]

BILLING CODE 3720-58-P